SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 7, 2008.

ADDRESSES: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street SW., 6th Floor, Wash., DC 20416.

FOR FURTHER INFORMATION CONTACT: Rachel Newman-Karton, Program Analyst, Office of Small Business Development Centers, 202-619-1816 rachel.newman-karton@sba.gov or Curtis B. Rich, Management Analyst, 202-205-7030 curtis.rich@sba.gov.

SUPPLEMENTARY INFORMATION: Title: “Quarterly Reports filed by Grantees of the Drug Free Workplace Program”.

Description of Respondents: Eligible Intermediaries who have received a Drug Free Workplace Program grant.

Form No: N/A.

Annual Responses: 52.

Annual Burden: 1,344.

Jacqueline White,
Chief, Administrative Information Branch.

[FR Doc. E8-2102 Filed 2-5-08; 8:45 am]

BILLING CODE 8025-01-P